DEPARTMENT OF LABOR

Employment And Training Administration

[TA-W-56,604]

Toshiba America Consumer Products, LLC, A Subsidiary Of Toshiba America, Inc., Including On-Site Leased Workers From Holland Employment Lebanon, Tennessee; Notice of Revised Determination of Alternative Trade Adjustment Assistance On Reconsideration

By letter dated April 1, 2005, a representative of the International Brotherhood of Electrical Workers, Local 429, requested administrative reconsideration regarding Alternative Trade Adjustment Assistance (ATAA). The certification for Trade Adjustment Assistance was signed on March 18, 2005. The Notice of determination will soon be published in the Federal Register.

The initial investigation determined that the subject worker group possesses skills that are easily transferable.

The petitioner provided new information to show that the workers possess skills that are not easily transferable.

At least five percent of the workforce at the subject firm is at least fifty years of age. Competitive conditions within the industry are adverse.

Conclusion

After careful review of the additional facts obtained on reconsideration, I conclude that the requirements of Section 246 of the Trade Act of 1974, as amended, have been met for workers at the subject firm.

In accordance with the provisions of the Act, I make the following certification:

“All workers of Toshiba America Consumer Products, LLC, A Subsidiary of Toshiba America, Inc., including on-site leased workers from Holland Employment, Lebanon, Tennessee, who became totally or partially separated from employment on or after February 17, 2004 through March 18, 2007, are eligible to apply for adjustment assistance under Section 223 of the Trade Act of 1974, and are also eligible to apply for alternative trade adjustment assistance under Section 246 of the Trade Act of 1974.”

Signed in Washington, DC this 22nd day of April 2005.
Elliott S. Kushner,
Certifying Officer, Division of Trade Adjustment Assistance.

[FR Doc. E5-2132 Filed 5-2-05; 8:45 am]

BILLING CODE 4510-30-P